DEPARTMENT OF THE INTERIOR

Fish and Wildlife Service

[FWS-HQ-MB-2017-N016; FF09M21200-167-FXMB1231099BPP0]

Proposed Information Collection; Federal Fish and Wildlife Permit Applications and Reports—Migratory Birds and Eagles

AGENCY: Fish and Wildlife Service, Interior.

ACTION: Notice; request for comments.

SUMMARY: We (U.S. Fish and Wildlife Service) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on May 31, 2017. We may not conduct or sponsor and a person is not required to respond to a collection of information unless it displays a currently valid OMB control number.

DATES: To ensure that we are able to consider your comments on this IC, we must receive them by April 25, 2017.

ADDRESSES: Send your comments on the IC to the Service Information Collection Clearance Officer, U.S. Fish and Wildlife Service, MS: BPHC, 5275 Leesburg Pike, Falls Church, VA 22041-3803 (mail); or madonna_baucum@fws.gov (email). Please include “1018-0022” in the subject line of your comments.

FOR FURTHER INFORMATION CONTACT: Madonna Baucum, at madonna_baucum@fws.gov (email) or (703) 358-2503 (telephone).

SUPPLEMENTARY INFORMATION:

I. Abstract:

Our Regional Migratory Bird Permit Offices use information that we collect on permit applications to determine the eligibility of applicants for permits requested in accordance with the criteria in various Federal wildlife conservation laws and international treaties, including:

(1) Migratory Bird Treaty Act (16 U.S.C. 703 et seq.).

(2) Lacey Act (16 U.S.C. 3371 et seq.).

(3) Bald and Golden Eagle Protection Act (16 U.S.C. 668).

Service regulations implementing these statutes and treaties are in chapter I, subchapter B of title 50 of the Code of Federal Regulations (CFR). These regulations stipulate general and specific requirements that, when met, allow us to issue permits to authorize activities that are otherwise prohibited.

All Service permit applications are in the 3-200 series of forms, each tailored to a specific activity based on the requirements for specific types of permits. We collect standard identifier information for all permits. The information that we collect on applications and reports is the minimum necessary for us to determine if the applicant meets/continues to meet issuance requirements for the particular activity.

Information collection requirements associated with the Federal fish and wildlife permit applications and reports for migratory birds and eagles are currently approved under two different OMB control numbers: 1018-0022, “Federal Fish and Wildlife Permit Applications and Reports—Migratory Birds and Eagles; 50 CFR 10, 13, 21, 22,” and 1018-0167, “Eagle Take Permits and Fees, 50 CFR 22.” In this revision of 1018-0022, we are including all of the information collection requirements associated with both OMB Control Numbers. If OMB approves this revision, we will discontinue OMB Control Number 1018-0167.

II. Data:

OMB Control Number: 1018-0022.

Title: Federal Fish and Wildlife Permit Applications and Reports—Migratory Birds and Eagles; 50 CFR 10, 13, 21, 22.

Service Form Number(s): FWS Forms 3-200-6 through 3-200-9, 3-200-10a through 3-200-10f, 3-200-12 through 3-200-16, 3-200-18, 3-200-67, 3-200-68, 3-200-71, 3-200-72, 3-200-77, 3-200-78, 3-200-79, 3-200-81, 3-200-82, 3-202-1 through 3-202-17, 3-186, and 3-186a.

Type of Request: Revision of a currently approved collection.

Description of Respondents: Individuals; zoological parks; museums; universities; scientists; taxidermists; businesses; utilities, and Federal, State, tribal, and local governments.

Respondent's Obligation: Required to obtain or retain a benefit.

Frequency of Collection: On occasion for applications; annually or on occasion for reports.

Activity | Number of respondents | Number of responses | Completion time per response (hours) | Total annual burden hours ²
APPLICATIONS
3-200-6, Import/Export | 76 | 76 | 1 | 76
3-200-7, Scientific Collecting | 210 | 210 | 5 | 1,050
3-200-8, Taxidermy | 690 | 690 | 2 | 1,380
3-200-9, Waterfowl Sale and Disposal | 370 | 370 | 1.5 | 555
3-200-10a, Special Purpose Salvage | 300 | 300 | 1.5 | 450
3-200-10b, Rehabilitation | 175 | 175 | 12 | 2,100
3-200-10c, Education—Live | 250 | 250 | 4.5 | 1,125
3-200-10d, Education—Dead | 65 | 65 | 2.5 | 163
3-200-10e, Game Bird Propagation | 15 | 15 | 1.5 | 23
3-200-10f, Miscellaneous | 50 | 50 | 2.5 | 125
3-200-12, Raptor Propagation | 55 | 55 | 4 | 220
3-200-13, Depredation | 2,700 | 2,700 | ¹ 3.6 | 7,963
3-200-14, Eagle Exhibition | 120 | 120 | 5.5 | 660
3-200-15a, Eagle Indian Religious and First Order | 2,000 | 2,000 | 1 | 2,000
3-200-15b, Eagle Indian Religious Reorder | 2,700 | 2,700 | .5 | 1,350
3-200-16, Take of Depredating Eagles | 6 | 6 | 3.5 | 22
3-200-18, Take of Golden Eagle Nests | 4 | 4 | 6.5 | 26
3-200-67, Special State Canada Goose | 1 | 1 | 7 | 7
3-200-68, Renewal of Permit | 5,050 | 5,050 | 1.5 | 7,575
3-200-71, Eagle Take (Disturb) | 150 | 150 | 16 | 2,400
3-200-72, Eagle Nest Take | 50 | 50 | 16 | 800
3-200-71 and 3-200-72, Eagle/Nest Take Amendment | 40 | 40 | 6 | 240
3-200-71 and 3-200-72, Eagle Take Programmatic | 20 | 20 | 452 | 9,040
3-200-71 and 3-200-72, Eagle Take Programmatic Amendment | 3 | 3 | 70 | 210
3-200-77, Native American Eagle Take | 10 | 10 | 2.25 | 23
3-200-78, Native American Eagle Aviary | 5 | 5 | 5 | 25
3-200-79, Special Purpose Abatement | 25 | 25 | 2.5 | 63
3-200-81, Special Purpose Utility | 30 | 30 | 15 | 450
3-200-82, Eagle Transport | 10 | 10 | 1 | 10
Eagle Take Programmatic Transfer | 3 | 3 | 40 | 120
3-200-72, Application—Eagle Nest Take Programmatic | 10 | 10 | 40 | 400
3-200-72, Application—Eagle Nest Take Programmatic Amendment | 2 | 2 | 20 | 40
REPORTS
3-202-1, Scientific Collecting | 580 | 580 | 1 | 580
3-202-2, Waterfowl Sale and Disposal | 1,000 | 1,000 | .5 | 500
3-202-3, Special Purpose Salvage | 1,850 | 1,850 | 1 | 1,850
3-202-4, Rehabilitation | 1,650 | 1,650 | 3 | 4,950
3-202-5, Possession for Education | 1,160 | 1,160 | 1.5 | 1,740
3-202-6, Special Purpose Game Bird | 95 | 95 | .5 | 48
3-202-7, Special Purpose Miscellaneous | 125 | 125 | .5 | 63
3-202-8, Raptor Propagation | 425 | 425 | 1 | 425
3-202-9, Depredation | 3,000 | 3,000 | 1 | 3,000
3-202-10, Special State Canada Goose | 18 | 18 | 1 | 18
3-202-11, Eagle Depredation | 125 | 125 | 1 | 125
3-202-12, Acquisition and Transfer Request | 2,600 | 2,600 | 1.5 | 3,900
3-202-13, Eagle Exhibition | 700 | 700 | 1 | 700
3-202-14, Native American Eagle Aviary | 10 | 10 | .5 | 5
3-202-15, Eagle Take Monitoring & Reporting | 990 | 990 | 30 | 29,700
3-202-15, Eagle Take Monitoring, Reporting, and Recordkeeping Programmatic | 20 | 20 | 342 | 6,840
3-202-16, Eagle Nest Take & Monitoring | 40 | 40 | 16 | 640
3-202-17, Avian Injury/Mortality Report | 500 | 500 | 6 | 3,000
3-186, Notice of Transfer & Sale of Migratory Waterfowl | 12,900 | 12,900 | .25 | 3,225
3-186a, Migratory Bird Acquisition & Disposition | 18,640 | 18,640 | .25 | 4,660
Total | 61,623 | 61,623 |  | 106,656
¹ Completion time varies from 1.75 hours for individuals to 3.5 hours for businesses and governments.
² Rounded.

Estimated Annual Non-hour Burden Cost: $1,520,525 for permit application fees.

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: February 17, 2017.
Tina A. Campbell,
Chief, Division of Policy, Performance, and Management Programs, U.S. Fish and Wildlife Service.

[FR Doc. 2017-03585 Filed 2-23-17; 8:45 am]

BILLING CODE 4333-15-P